DEPARTMENT OF DEFENSE

GENERAL SERVICES ADMINISTRATION

NATIONAL AERONAUTICS AND SPACE ADMINISTRATION

[OMB Control No. 9000-0163; Docket 2012-0076; Sequence 6]

Submission for OMB Review; Small Business Size Representation

AGENCY: Department of Defense (DOD), General Services Administration (GSA), and National Aeronautics and Space Administration (NASA).

ACTION: Notice of request for an extension to an existing OMB clearance.

SUMMARY: Under the provisions of the Paperwork Reduction Act, the Regulatory Secretariat will be submitting to the Office of Management and Budget (OMB) a request for approval of a previously approved information collection requirement regarding small business size representation. A notice was published in the Federal Register at 77 FR 13329, on March 6, 2012. No comments were received.

DATES: Submit comments on or before: June 21, 2012.

ADDRESSES: Submit comments identified by Information Collection 9000-0163, Small Business Size Representation, by any of the following methods:

• Regulations.gov: http://www.regulations.gov. Submit comments via the Federal eRulemaking portal by searching the OMB control number. Select the link “Submit a Comment” that corresponds with “Information Collection 9000-0163, Small Business Size Representation”. Follow the instructions provided at the “Submit a Comment” screen. Please include your name, company name (if any), and “Information Collection 9000-0163, Small Business Size Representation” on your attached document.

• Fax: 202-501-4067.

• Mail: General Services Administration, Regulatory Secretariat (MVCB), 1275 First Street NE., Washington, DC 20417. ATTN: Hada Flowers/IC 9000-0163, Small Business Size Representation.

Instructions: Please submit comments only and cite Information Collection 9000-0163, Small Business Size Representation, in all correspondence related to this collection. All comments received will be posted without change to http://www.regulations.gov, including any personal and/or business confidential information provided.

FOR FURTHER INFORMATION CONTACT: Mr. Karlos Morgan, Procurement Analyst, Office of Governmentwide Acquisition Policy, GSA (202) 501-0044 or karlos.morgan@gsa.gov.

SUPPLEMENTARY INFORMATION:

A. Purpose

Federal Acquisition Regulation (FAR) 19.301 and the FAR clause at 52.219-28, Post-Award Small Business Program Representation implement the Small Business Administration (SBA) Final Rule (71 FR 66434), Small Business Size Regulations; Size for Purposes of Governmentwide Acquisition Contracts, Multiple Award Schedule Contracts and Other Long-Term Contracts; 8(a) Business Development/Small Disadvantaged Business; Business Status Determinations. FAR 19.301 and the FAR clause at 52.219-28, requires that contractors represent size status by updating their representations and certifications at the prime contract level in the Online Representations and Certifications Application (ORCA)., and notify the contracting office that it has made the required representation.

The purpose of implementing small business rerepresentation in the FAR is to ensure that small business size status is accurately represented and reported over the life of long-term contracts. The FAR also provides for provisions designed to ensure more accurate reporting of size status for contracts that are novated, merged or acquired by another business. This information is used by the SBA, Congress, Federal agencies and the general public for various reasons such as determining if agencies are meeting statutory goals, set-aside determinations, and market research.

B. Annual Reporting Burden

Respondents: 10,000.

Responses per Respondent: 1.

Hours per Response: 0.5.

Total Burden Hours: 5,000.

Obtaining Copies of Proposals: Requesters may obtain a copy of the information collection documents from the General Services Administration, Regulatory Secretariat (MVCB), 1275 First Street NE., Washington, DC 20417, telephone (202) 501-4755. Please cite OMB Control No. 9000-0163, Small Business Size Rerepresentation, in all correspondence.

Dated: May 16, 2012.
Laura Auletta,
Director, Office of Governmentwide Acquisition Policy, Office of Acquisition Policy, Office of Governmentwide Policy.

[FR Doc. 2012-12331 Filed 5-21-12; 8:45 am]

BILLING CODE 6820-EP-P